DEPARTMENT OF ENERGY

Federal Energy Regulatory Commission

Combined Notice of Filings #2

February 10, 2006.

Take notice that the Commission received the following electric rate filings

Docket Numbers: ER01-1147-002.

Applicants: PECO Energy Company.

Description: PECO Energy Co submits filing in compliance with FERC's 12/29/05 letter order.

Filed Date: 02/02/2006.

Accession Number: 20060209-0195

Comment Date: 5 p.m. Eastern Time on Thursday, February 23, 2006.

Docket Numbers: ER01-1807-020; ER01-2020-017.

Applicants: Carolina Power & Light Company; Florida Power Corporation.

Description: Carolina Power & Light Co dba Progress Energy Carolinas Inc submits a corrected refund report for that sub-docket which shows the correct quarterly percentages & revised interest amounts.

Filed Date: 02/01/2006.

Accession Number: 20060209-0196.

Comment Date: 5 p.m. Eastern Time on Wednesday, February 22, 2006.

Docket Numbers: ER06-162-001.

Applicants: Entergy Service, Inc.

Description: Entergy Services, Inc submits its compliance filing, pursuant to FERC's 6/3/06 Order.

Filed Date: 02/02/2006.

Accession Number: 20060209-0194.

Comment Date: 5 p.m. Eastern Time on Thursday, February 23, 2006.

Docket Numbers: ER06-354-002; EL06-44-002.

Applicants: California Independent System Operator Corporation.

Description: California Independent System Operator Corp submits its filing in compliance with FERC's 1/13/06 Order.

Filed Date: 02/02/2006.

Accession Number: 20060209-0199.

Comment Date: 5 p.m. Eastern Time on Thursday, February 23, 2006.

Docket Numbers: ER06-600-000.

Applicants: Louisville Gas and Electric Company and Kentucky Utilities Company.

Description: Louisville Gas & Electric Co & Kentucky Utilities Co submit an agreement with the Indiana Municipal Power Agency.

Filed Date: 02/02/2006.

Accession Number: 20060206-0180.

Comment Date: 5 p.m. Eastern Time on Thursday, February 23, 2006.

Docket Numbers: ER06-601-000.

Applicants: Louisville Gas and Electric Company and Kentucky Utilities Company.

Description: LG&E Energy, LLC & Kentucky Utilities Co submit an agreement with Illinois Municipal Electric Agency.

Filed Date: 02/02/2006.

Accession Number: 20060206-0179.

Comment Date: 5 p.m. Eastern Time on Thursday, February 23, 2006.

Docket Numbers: ER06-604-000.

Applicants: American Electric Power Corporation.

Description: American Electric Power Corp, as designated agent for AEP Operating Companies submits an interconnection & local delivery service agreement with Village of Republic, OH.

Filed Date: 02/02/2006.

Accession Number: 20060206-0176.

Comment Date: 5 p.m. Eastern Time on Thursday, February 23, 2006.

Docket Numbers: ER06-606-000.

Applicants: BlueRock Energy, Inc.

Description: BlueRock Energy, Inc's petition for acceptance of initial rate schedule, waivers and blanket authority.

Filed Date: 02/02/2006.

Accession Number: 20060206-0175.

Comment Date: 5 p.m. Eastern Time on Thursday, February 23, 2006.

Docket Numbers: ER06-607-000.

Applicants: American Electric Power Service Company.

Description: American Electric Power Service Corp as designated agent for AEP Operating Companies submits an Interconnection and Local Delivery Service Agreement with the City of Wapakoneta, OH.

Filed Date: 02/02/2006.

Accession Number: 20060206-0174.

Comment Date: 5 p.m. Eastern Time on Thursday, February 23, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-2260 Filed 2-16-06; 8:45 am]

BILLING CODE 6717-01-P